DEPARTMENT OF HEALTH AND HUMAN SERVICES

Centers for Disease Control and Prevention

[60 Day-14-14AIO]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

National Survey of Primary Care Policies for Managing Patients with High Blood Pressure, High Cholesterol, or Diabetes—New—National Center for Health Statistics (NCHS), Centers for Disease Control and Prevention (CDC).

Background and Brief Description

Cardiovascular disease is a leading cause of death and disability for men and women in the United States, among the most costly health problems facing our nation today, and among the most preventable. Risk factors for cardiovascular disease include high blood pressure and high cholesterol. Because over 50% of diabetics have high blood pressure, high cholesterol, or both conditions, the optimal systems to treat people with hypertension, high cholesterol, or diabetes are interrelated.

In 2005, CDC's Division for Heart Disease and Stroke Prevention (DHDSP) began developing evaluation indicators that reflect evidence-based outcomes from policy, systems, and environmental changes related to heart disease and stroke prevention. However, many of the indicators for short-term policy and systems changes do not have readily available data sources. This is particularly true for outcomes related to health care systems changes.

NCHS proposes to conduct a new information collection, the National Survey of Primary Care Policies for Managing Patients with High Blood Pressure, High Cholesterol, or Diabetes. This survey will serve as an extension of the National Ambulatory Medical Care Survey (NAMCS) (OMB No. 0920-0234), NCHS's primary survey on office-based physicians. In order to minimize the burden on physicians currently sampled in NAMCS, this survey is being launched as a distinct data-collection effort, but will use NAMCS definitions, questions, and specifications as appropriate. The survey will be targeted to primary care physicians specializing in internal medicine or family practice. Respondents will be drawn from a nationally representative sample of physicians. Physicians working in hospitals, federal facilities, nursing homes, rehabilitation centers and correctional facilities will not be eligible for the survey. Eligibility will be determined by phone. The survey instrument will undergo cognitive testing before administration.

The mail-based survey will collect information about physician practices' use of evidence-based systems, including multidisciplinary team approaches for chronic disease treatment, electronic health records (EHR) with features appropriate for treating patients with chronic disease (e.g., clinical decision supports, patient registries), and patient follow-up mechanisms. Approximately 945 physicians will participate in the data collection. This is a one-time data collection.

Information will be used to examine health systems and dissemination of health systems technology. Results will be used by primary care practices to inform their systems for managing patients with chronic conditions and to improve the quality of care delivered. Results will be used by NCHS and CDC to improve technical assistance to public health partners.

Because this project was previously submitted by the CDC's National Center for Chronic Disease Prevention and Health Promotion (NCCDPHP), a 60-day notice was previously published by NCCDPHP on April 29, 2011 (Vol. 76, No. 83, pp. 24029-24030).

OMB approval is requested for three years. Participation in the Survey is voluntary and all responses will be de-identified. There are no costs to respondents other than their time. The total estimated annualized burden hours are 287.

Estimated Annualized Burden Hours
Type of respondent | Form name | Number of respondents | Number responses per respondent | Average burden per response (in hours) | Total burden (in hours)
Physician | Cognitive Testing Screener | 10 | 1 | 10/60 | 2
Physician | Cognitive Testing Protocol | 10 | 1 | 75/60 | 13
Medical Secretary | NSPCP Screener | 1,000 | 1 | 10/60 | 167
Physician | NSPCP | 315 | 1 | 20/60 | 105
Total |  |  |  |  | 287

Leroy Richardson,
Chief, Information Collection Review Office, Office of Scientific Integrity, Office of the Associate Director for Science, Office of the Director, Centers for Disease Control and Prevention.

[FR Doc. 2014-14359 Filed 6-18-14; 8:45 am]

BILLING CODE 4163-18-P